DEPARTMENT OF LABOR

Occupational Safety and Health Administration

[Docket No. OSHA-2024-0005]

National Advisory Committee on Occupational Safety and Health (NACOSH); Request for Nominations

AGENCY: Occupational Safety and Health Administration (OSHA), Labor.

ACTION: Request for nominations.

SUMMARY: OSHA invites interested persons to submit nominations for membership on the National Advisory Committee on Occupational Safety and Health (NACOSH).

DATES: Nominations for NACOSH membership must be submitted (postmarked, sent, transmitted, or received) by August 16, 2024.

ADDRESSES: You may submit nominations and supporting materials by one of the following methods:

Electronically: You may submit nominations, including attachments, electronically at http://www.regulations.gov, which is the Federal eRulemaking Portal. Follow the online instructions for making submissions.

OSHA will post submissions in response to this Federal Register notice, including personal information, in the public docket, which will be available online. Therefore, OSHA cautions interested parties about submitting personal information such as Social Security numbers and birthdates.

Docket: To read or download submissions or other material in the docket, go to http://www.regulations.gov. All documents in the public docket are listed in the index; however, some documents (e.g., copyrighted material) are not publicly available to read or download through www.regulations.gov. All submissions, including copyrighted material, are available for inspection through the OSHA Docket Office. Contact the OSHA Docket Office at (202) 693-2350 (TTY (877) 889-5627) for assistance in locating docket submissions.

FOR FURTHER INFORMATION CONTACT:

For press inquiries: Mr. Frank Meilinger, Director, OSHA Office of Communications, U.S. Department of Labor; telephone: (202) 693-1999; email: meilinger.francis2@dol.gov.

General information and technical inquiries: Ms. Lisa Long, Deputy Director, Directorate of Standards and Guidance, OSHA, U.S. Department of Labor; telephone: (202) 693-2049; email: long.lisa@dol.gov.

SUPPLEMENTARY INFORMATION: The Secretary of Labor (Secretary) invites interested individuals to submit nominations for membership on NACOSH.

I. Background

The Occupational Safety and Health Act of 1970 (OSH Act) (29 U.S.C. 651, 656) established NACOSH to advise, consult with, and make recommendations to the Secretary and the Secretary of Health and Human Services (HHS Secretary) on matters relating to the administration of the OSH Act. NACOSH is a continuing advisory committee of indefinite duration.

NACOSH operates in accordance with the Federal Advisory Committee Act (FACA) (5 U.S.C. 10), implementing regulations (41 CFR part 102-3), the OSH Act, and OSHA's regulations on NACOSH (29 CFR part 1912a).

The Committee shall meet at least two times a year (29 U.S.C. 656(a)(2)). Committee members serve without compensation, but OSHA provides travel and per diem expenses. NACOSH members serve staggered terms, unless the member becomes unable to serve, resigns, ceases to be qualified to serve, or is removed by the Secretary. The terms of four NACOSH members expire on January 16, 2025.

II. NACOSH Membership

NACOSH is comprised of 12 members appointed by the Secretary of Labor. Accordingly, the Secretary seeks committed members to serve a two-year term. If a vacancy occurs before a term expires, the Secretary may appoint a new member who represents the same interest as the predecessor to serve the remainder of the unexpired term. The U.S. Department of Labor (Department) is committed to equal opportunity in the workplace and seeks a broad-based and diverse NACOSH membership.

Nominations of new members, or resubmissions of current or former members, will be accepted in four categories of membership. Interested persons may nominate themselves or submit the name of another person whom they believe to be interested in and qualified to serve on NACOSH. Nominations may also be submitted by organizations from one of the categories listed.

OSHA invites nominations for the following NACOSH membership positions:

• One (1) public representative;

• One (1) management representative;

• One (1) labor representative; and

• One (1) occupational safety professional representative.

III. Submission Requirements

Any individual or organization may nominate one or more qualified persons for membership on NACOSH. Nominations must include the following information:

1. The nominee's name, contact information, and current employment or position;

2. The nominee's resume or curriculum vitae, including prior membership on NACOSH and other relevant organizations and associations;

3. The categories that the nominee is qualified to represent;

4. A summary of the background, experience, and qualifications that address the nominee's suitability for membership;

5. A list of articles or other documents the nominee has authored that indicates the nominee's experience in worker safety and health; and

6. A statement that the nominee is aware of the nomination, is willing to regularly attend and participate in NACOSH meetings, and has no conflicts of interest that would preclude membership on NACOSH.

OSHA will conduct a basic background check of candidates before their appointment to NACOSH. The background check will involve accessing publicly available, internet-based sources.

IV. Member Selection

The Secretary of Labor will select four NACOSH members based on their experience, knowledge, and competence in the field of occupational safety and health (29 CFR 1912a.2). Information received through this nomination process, in addition to other relevant sources of information, will assist the Secretary of Labor in appointing members to NACOSH. In selecting NACOSH members, the Secretary will consider individuals nominated in response to this Federal Register notice, as well as other qualified individuals. OSHA will publish a list of NACOSH members in the Federal Register.

V. Authority and Signature

James S. Frederick, Deputy Assistant Secretary of Labor for Occupational Safety and Health, authorized the preparation of this notice under the authority granted by 29 U.S.C. 656, 5 U.S.C. 10, 29 CFR parts 1912 and 1912a; 41 CFR part 102-3; and Secretary of Labor's Order No. 8-2020 (85 FR 58393, Sept. 18, 2020).

Signed at Washington, DC, on July 11, 2024.
James S. Frederick,
Deputy Assistant Secretary of Labor for Occupational Safety and Health.

[FR Doc. 2024-15697 Filed 7-16-24; 8:45 am]

BILLING CODE 4510-26-P